DEPARTMENT OF ENERGY

Federal Energy Regulatory Commission

Combined Notice of Filings

November 24, 2008.

Take notice that the Commission has received the following Natural Gas Pipeline Rate and Refund Report filings:

Docket Numbers: RP96-200-201.

Applicants: CenterPoint Energy Gas Transmission Co.

Description: CenterPoint Energy Gas Transmission Company submits a negotiated rate agreement between CEGT and Southwestern Electric Power.

Filed Date: 11/19/2008.

Accession Number: 20081120-0140.

Comment Date: 5 p.m. Eastern Time on Monday, December 1, 2008.

Docket Numbers: RP00-157-022.

Applicants: Kern River Gas Transmission Company.

Description: Second Refund Report Reflecting refunds issued on October 31, 2008, pursuant to Offer of Settlement and Stipulation filed on September 30, 2008.

Filed Date: 11/19/2008.

Accession Number: 20081119-5109.

Comment Date: 5 p.m. Eastern Time on Monday, December 1, 2008.

Docket Numbers: RP09-87-000.

Applicants: Southern Star Central Gas Pipeline, Inc.

Description: Annual Operational Flow Order Report.

Filed Date: 11/19/2008.

Accession Number: 20081119-5126.

Comment Date: 5 p.m. Eastern Time on Monday, December 1, 2008.

Docket Numbers: RP09-88-000.

Applicants: ANR Pipeline Company.

Description: ANT Pipeline Company submits Seventh Revised Sheet 76 for inclusion in ANR's FERC Gas Tariff, Original Volume 2.

Filed Date: 11/19/2008.

Accession Number: 20081120-0139.

Comment Date: 5 p.m. Eastern Time on Monday, December 1, 2008.

Docket Numbers: RP09-89-000.

Applicants: CenterPoint Energy Gas Transmission Co.

Description: CenterPoint Energy Gas Transmission Company submits Sixth Revised Sheet 1 et. al. to FERC Gas Tariff, Sixth Revised Volume 1, to be effective 12/20/08.

Filed Date: 11/20/2008.

Accession Number: 20081124-0151.

Comment Date: 5 p.m. Eastern Time on Tuesday, December 2, 2008.

Docket Numbers: RP09-90-000.

Applicants: East Tennessee Natural Gas, LLC.

Description: East Tennessee Natural Gas, LLC submits Fifth Revised Sheet 1 et. al to FERC Gas Tariff, Third Revised Volume 1, to be effective 1/1/09.

Filed Date: 11/20/2008.

Accession Number: 20081124-0150.

Comment Date: 5 p.m. Eastern Time on Tuesday, December 2, 2008.

Docket Numbers: RP09-91-000.

Applicants: Northwest Pipeline GP.

Description: Northwest Pipeline GP submits Second Revised Sheet 5 et. al. to FERC Gas Tariff, Fourth Revised Volume 1.

Filed Date: 11/20/2008.

Accession Number: 20081124-0148.

Comment Date: 5 p.m. Eastern Time on Tuesday, December 2, 2008.

Docket Numbers: RP09-92-000.

Applicants: Dominion Transmission, Inc.

Description: Dominion Transmission, Inc submits Sheet 0, Third Revised Sheet 1092 et. al. to FERC Gas Tariff, Third Revised Volume 1, to be effective 12/22/08.

Filed Date: 11/20/2008.

Accession Number: 20081124-0147.

Comment Date: 5 p.m. Eastern Time on Tuesday, December 2, 2008.

Docket Numbers: RP09-93-000.

Applicants: Southeast Supply Header, LLC.

Description: Southeast Supply Header, LLC submits First Revised Sheet 323 et. al. to FERC Gas Tariff, Original Volume 1, to be effective 1/1/09.

Filed Date: 11/20/2008.

Accession Number: 20081124-0146.

Comment Date: 5 p.m. Eastern Time on Tuesday, December 2, 2008.

Docket Numbers: RP09-94-000.

Applicants: Dominion South Pipeline Company, LP.

Description: Dominion South Pipeline Company, LP submits First Revised Sheet 1062 et al to FERC Gas Tariff, Original Volume 1, to be effective 12/22/08.

Filed Date: 11/20/2008.

Accession Number: 20081124-0141.

Comment Date: 5 p.m. Eastern Time on Tuesday, December 2, 2008.

Docket Numbers: RP09-95-000.

Applicants: Dominion Cove Point LNG, LP.

Description: Dominion Cove Point LNG, LP submits Sheet 0, Fourth Revised Sheet 400, and First Revised Sheet 407 to FERC Gas Tariff, Original Volume 1, to be effective 12/22/08.

Filed Date: 11/20/2008.

Accession Number: 20081124-0142.

Comment Date: 5 p.m. Eastern Time on Tuesday, December 2, 2008.

Docket Numbers: RP09-96-000.

Applicants: Saltville Gas Storage Company L.L.C.

Description: Saltville Gas Storage Company, LLC submits First Revised Second Revised Sheet 111A et al. to FERC Gas Tariff, Original Volume 1, to be effective 1/1/09.

Filed Date: 11/20/2008.

Accession Number: 20081124-0143.

Comment Date: 5 p.m. Eastern Time on Tuesday, December 2, 2008.

Docket Numbers: RP09-97-000.

Applicants: Algonquin Gas Transmission Company.

Description: Algonquin Gas Transmission, LLC submits Third Revised Sheet 509 et al. to FERC Gas Tariff, Fifth Revised Volume 1, to be effective 1/1/09.

Filed Date: 11/20/2008.

Accession Number: 20081124-0144.

Comment Date: 5 p.m. Eastern Time on Tuesday, December 2, 2008.

Docket Numbers: RP09-98-000.

Applicants: Texas Eastern Transmission LP.

Description: Texas Eastern Transmission, LP submits Second Revised Sheet 512C et al. to FERC Gas Tariff, Seventh Revised Volume 1, to be effective 1/1/09.

Filed Date: 11/20/2008.

Accession Number: 20081124-0145.

Comment Date: 5 p.m. Eastern Time on Tuesday, December 2, 2008.

Docket Numbers: RP09-99-000.

Applicants: Egan Hub Storage, LLC.

Description: Egan Hub Storage, LLC submits Fourth Revised Sheet 109 et al. to its FERC Gas Tariff, First Revised Volume 1, to be effective 1/1/09.

Filed Date: 11/20/2008.

Accession Number: 20081124-0149.

Comment Date: 5 p.m. Eastern Time on Tuesday, December 2, 2008.

Docket Numbers: RP09-100-000.

Applicants: Maritimes & Northeast Pipeline, L.L.C.

Description: Maritimes & Northeast Pipeline, LLC submits Second Revised Sheet 138 et al. to FERC Gas Tariff, First Revised Volume 1, to be effective 1/1/09.

Filed Date: 11/21/2008.

Accession Number: 20081121-0191.

Comment Date: 5 p.m. Eastern Time on Wednesday, December 3, 2008.

Docket Numbers: RP09-101-000.

Applicants: Gas Transmission Northwest Corporation.

Description: Gas Transmission Northwest Corp. submits Sixteenth Revised Sheet 4 to be part of its FERC Gas Tariff, Third Revised Volume 1-A.

Filed Date: 11/21/2008.

Accession Number: 20081121-0192.

Comment Date: 5 p.m. Eastern Time on Wednesday, December 3, 2008.

Docket Numbers: RP09-102-000.

Applicants: Kern River Gas Transmission Company.

Description: Kern River Gas Transmission Co. submits First Revised Nineteenth Revised Sheet 5 et al. to its FERC Gas Tariff, Second Revised Volume 1, to be effective 1/1/09.

Filed Date: 11/21/2008.

Accession Number: 20081121-0193.

Comment Date: 5 p.m. Eastern Time on Wednesday, December 3, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.
Deputy Secretary.

[FR Doc. E8-28517 Filed 12-1-08; 8:45 am]

BILLING CODE 6717-01-P